DEPARTMENT OF DEFENSE

Department of the Air Force

Intent to Grant a Partially Exclusive Patent License

AGENCY: Department of the Air Force, DoD.

ACTION: Notice.

SUMMARY: Pursuant to the provisions of Part 404 of Title 37, code of Federal Regulations, which implements Public Law 96-517, as amended, the Department of the Air Force announces its intention to grant Aman Data, a Limited Liability Corporation of Nevada, having a place of business at Las Vegas, Nevada, a partially exclusive license in any right, title and interest the Air Force has in:

a. U.S. Patent No. 5,365,425, issued 15 Nov 1994, entitled “Method and System for Measuring Management Effectiveness” by Michael J. Torma, Bernard W. Galing, Robert J. Palmer, and Suzanne K.S. West.

b. U.S. Patent No. 5,373,236, issued 13 Dec 1994, entitled “Highly Accurate Zero Crossings for Frequency Determination” by David C. Tsui, James B.Y. Tsui, and James N. Hedge.

c. U.S. Patent No. 5,383,184, issued 17 Jan 1995, entitled “Multi-Speaker Conferencing over Narrowband Channels” by Terrence G. Champion.

d. U.S. Patent No. 5,453,835, issued 26 Sep 1995, entitled “Multichannel Acousto-Optic Correlator for Time Delay Computation” by Michael J. Ward and Christopher W. Keefer.

e. U.S. Patent No. 5,485,312, issued 16 Jan 1996, entitled “Optical Pattern Recognition System and Method for Verifying the Authenticity of a Person, Product or Thing” by Joseph L. Horner, Bahram Javidi, and John F. Walkup.

f. U.S. Patent No. 5,493,444, issued 20 Feb 1996, entitled “Photorefractive Two-Beam Coupling Nonlinear Joint Transform Correlator” by Jehad Khoury, Charles L. Woods, Peter D. Gianino, and Mark Cronin-Golomb.

g. U.S. Patent No. 5,457,685, issued 10 Oct 1995, entitled “Multi-Speaker Conferencing over Narrowband Channels” by Terrence G. Champion.

h. U.S. Patent No. 5,465,221, issued 07 Nov 1995, entitled “Automated Process Planning for Quality Control Inspection” by Francis L. Merat, Kavous Roumina, Steven M. Ruegsegger, and Robert B. DelValle.

i. U.S. Patent No. 5,574,824, issued 12 Nov 1996, entitled “Analysis/Synthesis-Based Microphone Array Speech Enhancer with Variable Signal Distortion” by Raymond E. Slyh, Randolph L. Moses and Timothy R. Anderson.

j. U.S. Patent No. 5,617,233, issued 01 Apr 1997, entitled “Transparent Optical Node Structure” by Raymond K. Boncek.

k. U.S. Patent No. 5,640,429, issued 17 Jun 1997, entitled “Multi-Channel Non-Gaussian Receiver and Method” by James H. Michels and Muralidhar Rangaswamy.

l. U.S. Patent No. 5,666,518, issued 09 Sep 1997, entitled “Pattern Recognition by Simulated Neural-Like Networks” by Eric J. Jumper.

m. U.S. Patent No. 5,675,521, issued 07 Oct 1997, entitled “Multichip Module Analyzer” by Douglas J. Holzhauer, Dale W. Richards, Ian R. Grosse, Daniel D. Corkill and Prasanna Katragadda.

n. U.S. Patent No. 5,684,577, issued 04 Nov 1997, entitled “Satellite Terminal Warning System” by Sidney W. Kash.

o. U.S. Patent No. 5,694,602, issued 02 Dec 1997, entitled “Weighted System and Method for Spatial Allocation of a Parallel Load” by Bradley J. Smith.

p. U.S. Patent No. 5,705,959, issued 06 Jan 1998, entitled “High Efficiency Low Distortion Amplification” by James P. O'Loughlin.

q. U.S. Patent No. 5,708,587, issued 13 Jan 1998, entitled “Microwave/Optical Transformation Method” by Charmaine C. Franck, Jerome B. Franck and Angus McLeod.

r. U.S. Patent No. 5,736,978, issued 07 Apr 1998, entitled “Tactile Graphics Display” by Christopher J. Hasser.

s. U.S. Patent No. 5,742,045, issued 21 Apr 1998, entitled “Apparatus Using Diode Laser Logic to Form a Configurable Optical Gate System” by Michael A. Parker, Paul D. Swanson, Stuart I. Libby and James S. Kimmet.

t. U.S. Patent No. 5,748,846, issued 05 May 1998, entitled “Neural Engineering Utility with Adaptive Algorithms” by Larry V. Kirkland and Jere D. Wiederholt.

u. U.S. Patent No. 5,799,106, issued 25 Aug 1998, entitled “Noise Immune Automated Contrast Control for Infrared Cameras” by Jonathan M. Mooney, Jerry Silverman and Steven DiSalvo.

v. U.S. Patent No. 5,815,597, issued 29 Sep 1998, entitled “Binary Encoding of Gray Scale Nonlinear Joint Transform Correlators” by Joseph L. Horner and Bahram Javidi.

w. U.S. Patent No. 5,831,883, issued 03 Nov 1998, entitled “Low Energy Consumption, High Performance Fast Fourier Transform” by Bruce Suter and Kenneth Stevens.

x. U.S. Patent No. 5,903,390, issued 11 May 1999, entitled “Two Port Nonlinear Joint Transform Correlator” by Jonathan S. Kane, Charles L. Woods, Jehad Khoury and George Asimellis.

y. U.S. Patent No. 5,917,737, issued 29 Jun 1999, entitled “Fourier Transform Mechanization Using One Bit Kernel Function” by James B.Y. Tsui and John J. Schamus.

z. U.S. Patent No. 5,920,430, issued 06 Jul 1999, entitled “Lensless Joint Transform Optical Correlator for Precision Industrial Positioning Systems” by Thomas J. Grycewicz.

aa. U.S. Patent No. 5,931,959, issued 03 Aug 1999, entitled “Dynamically Reconfigurable FPGA Apparatus and Method for Multiprocessing and Fault Tolerance” by Kevin Anthony Kwiat.

bb. U.S. Patent No. 6,002,298, issued 14 Dec 1999, entitled “Reconstituted Frequency Modulation with Feedforward Demodulator” by Andrew J. Noga.

cc. U.S. Patent No. 6,064,332, issued 16 May 2000, entitled “Proportional Guidance and Augmented Proportional Guidance” by James R. Cloutier.

dd. U.S. Patent No. 6,072,444, issued 06 Jun 2000, entitled “Adaptable HUD Mount” by Fletcher A. Burns.

ee. U.S. Patent No. 6,085,251, issued 04 Jul 2000, entitled “Implementing a Parallel File Transfer Protocol” by Donald Joseph Fabozzi II.

ff. U.S. Patent No. 6,101,602, issued 08 Aug 2000, entitled “Digital Watermarking by Adding Random, Smooth Patterns” by Jiri Fridrich.

gg. U.S. Patent No. 6,134,425, issued 17 Oct 2000, entitled “Digital Module RF Section” by Frank Willwerth.

hh. U.S. Patent No. 6,148,399, issued 14 Nov 2000, entitled “Advanced Instrument Controller” by James C. Lyke.

ii. U.S. Patent No. 6,150,979, issued 21 Nov 2000, entitled “Passive Ranging Using Global Positioning System” by James B.Y. Tsui.

jj. U.S. Patent No. 6,167,330, issued 26 Dec 2000, entitled “Dynamic Power Management of Systems” by Mark H. Linderman.

kk. U.S. Patent No. 6,172,509, issued 09 Jan 2001, entitled “Detecting Polyphase Machine Faults via Current Deviation” by Marcus A. Cash and Thomas G. Habetler.

ll. U.S. Patent No. 6,195,328, issued 27 Feb 2001, entitled “Block Adjustment of Synchronizing Signal for Phase-Coded Signal Tracking” by James B.Y. Tsui, Dennis M. Akos and Michael H. Stockmaster.

mm. U.S. Patent No. 6,229,649, issued 08 May 2001, entitled “Pseudo Deconvolution Method of Recovering a Distorted Optical Image” by Charles L. Woods, Jehad Khoury and Jack Fu.

nn. U.S. Patent No. 6,240,471, issued 29 May 2001, entitled “Data Transfer Interfacing” by Erick A. Schlueter, Mark H. Linderman and Richard W. Linderman.

oo. U.S. Patent No. 6,244,536, issued 12 Jun 2001, entitled “Air to Air Homing Missile Guidance” by James R. Cloutier.

pp. U.S. Patent No. 6,247,145, issued 12 Jun 2001, entitled “Automated Reliability and Maintainability Process” by David C. Witteried.

qq. U.S. Patent No. 6,256,559, issued 03 Jul 2001, entitled “Passive Altimeter Employing GPS Signals” by James B.Y. Tsui.

rr. U.S. Patent No. 6,275,679, issued 14 Aug 2001, entitled “Secure Communication Using Array Transmitter” by Carl M. Elam and Dale A. Leavy.

ss. U.S. Patent No. 6,275,751, issued 14 Aug 2001, entitled “Smart Docking Surface for Space Serviceable Nano and Micro Satellites” by Michael Stallard, Michael Obal and Alok Das.

tt. U.S. Patent No. 6,292,506, issued 18 Sep 2001, entitled “Length Selectable Hardware Efficient Pseudorandom Code Generator” by John F. Brendle, Jr., James P. Stephens, Sr., Michael A. Temple and Robert S. Parks.

uu. U.S. Patent No. 6,317,506, issued 13 Nov 2001, entitled “Measuring the Characteristics of Oscillating Motion” by Herbert F. Helbig and Daniel J. Burns.

vv. U.S. Patent No. 6,356,580, issued 12 Mar 2002, entitled “Direct Sequence Spread Spectrum using Non-Antipodal Phase Shift Keying” by James P. Stephens, Sr. and Robert S. Parks.

ww. U.S. Patent No. 6,363,496, issued 26 Mar 2002, entitled “Apparatus and Method for Reducing Duration of Timeout Periods in Fault-Tolerant Distributed Computer Systems” by Kevin Anthony Kwiat.

xx. U.S. Patent No. 6,377,242, issued 23 Apr 2002, entitled “Display Pointer Tracking Device” by Richard H. Sweed.

yy. U.S. Patent No. 6,401,082, issued 04 Jun 2002, entitled “Autoassociative-Heteroassociative Neural Network” by Claudia V. Kropas-Hughes, Steven K. Rogers, Mark E. Oxley and Matthew Kabrisky.

zz. U.S. Patent No. 6,463,341, issued 08 Oct 2002, entitled “Orthogonal Functional Basis Method for Function Approximation” by Yang Cao, Steven R. LeClair and Chun-Lung Philip Chen.

aaa. U.S. Patent No. 6,473,596, issued 29 Oct 2002, entitled “Close Proximity Transmitter Interference Limiting” by Keith A. Stamper and Mark C. Calcatera.

bbb. U.S. Patent No. 6,502,032, issued 31 Dec 2002, entitled “GPS Urban Navigation System for the Blind” by George H. Newman.

ccc. U.S. Patent No. 6,513,022, issued 28 Jan 2003, entitled “Dynamic Programming Network” by James S. Morgan.

ddd. U.S. Patent No. 6,553,333, issued 22 Apr 2003, entitled “System and Method for Calculating Aerodynamic Performance of Tilting Wing Aircraft” by Barth W. Shenk.

eee. U.S. Patent No. 6,567,042, issued 20 May 2003, entitled “Acquisition through Circular Correlation by Partition for GPS C/A Code and P(Y) Code” by David M. Lin and James B.Y. Tsui.

fff. U.S. Patent No. 6,567,566, issued 20 May 2003, entitled “Techniques to Improve Binary Joint Transform Correlator, Particularly for Fingerprint Recognition” by Thomas J. Grycewicz.

ggg. U.S. Patent No. 6,643,628, issued 04 Nov 2003, entitled “Cellular Automata Neural Network Method for Process Modeling of Film-Substrate Interactions and Other Dynamic Processes” by Allen G. Jackson, Mark D. Benedict and Steven R. LeClair.

hhh. U.S. Patent No. 6,653,970, issued 25 Nov 2003, entitled “Multi-Static UAV Radar System for Mode-Adaptive Propagation Channels with Obscured Targets” by Atindra K. Mitra.

iii. U.S. Patent No. 6,690,315, issued 10 Feb 2004, entitled “Quadbit Kernel Function Algorithm and Receiver” by John J. Schamus, James B.Y. Tsui, William S. McCormick and John M. Emmert.

jjj. U.S. Patent No. 6,704,887, issued 09 Mar 2004, entitled “Method and Apparatus for Improved Security in Distributed-Environment Voting” by Kevin A. Kwiat and Benjamin C. Hardekopf.

kkk. U.S. Patent No. 6,720,917, issued 13 Apr 2004, entitled “Improved Acquisition for GPS C/A Code and P(Y) Code” by David M. Lin and James B.Y. Tsui.

lll. U.S. Patent No. 6,727,841, issued 27 Apr 2004, entitled “Position-Adaptive UAV Radar for Urban Environments” by Atindra K. Mitra.

mmm. U.S. Patent No. 6,831,596, issued 14 Dec 2004, entitled “Calibrating the Sampling Frequency of a GPS Receiver” by James B.Y. Tsui and David M. Lin.

DATES: A license for these patents will be granted unless a written objection is received within fifteen (15) days from the date of publication of this Notice. Written objections should be sent to: Air Force Materiel Command Law Office, AFMCLO/JAZ, Building 11, Room 100, 2240 B Street, Wright-Patterson AFB OH 45433-7109.

FOR FURTHER INFORMATION CONTACT: Fred Sinder, Air Force Materiel Command Law Office, AFMCLO/JAZ, Building 11, Room 100, 2240 B Street, Wright-Patterson AFB OH 45433-7109. Telephone: (937) 255-2838; Facsimile (937) 255-3733.

Bao-Anh Trinh,
Air Force Federal Register Liaison Officer.

[FR Doc. E6-8234 Filed 5-26-06; 8:45 am]

BILLING CODE 5001-06-P